DEPARTMENT OF COMMERCE

Office of the Secretary

[Docket No.: 021023250-2250-01]

Privacy Act of 1974; System of Records

AGENCY: Office of Administration, Office of the Secretary, Department of Commerce.

ACTION: Notice and request for comments.

SUMMARY: In accordance with the Privacy Act (5 U.S.C. 552a(e) (4) and (11)), the Department of Commerce is issuing notice of our intent to amend the system of records entitled Commerce/Census 7, “Special Censuses of Population Conducted for State and Local Government.” We invite public comment on the proposed change in this publication.

DATES: The amendments will become effective as proposed without further notice on December 2, 2002. Comment Date: To be considered, written comments must be submitted on or before December 2, 2002.

ADDRESSES: Comments may be mailed to Gerald W. Gates, Chief, Policy Office, U.S. Census Bureau, Washington, DC 20233.

SUPPLEMENTARY INFORMATION: The amendment updates administrative information concerning the categories of individuals covered by the system, the authority for maintenance of the system, the purpose of the system of records, safeguards, the retention and disposal of the records in the system, and the system manager in addition to other minor administrative updates. Accordingly, the Special Censuses of Population Conducted for State and Local Government system notice originally published at 45 FR 82105, December 12, 1980, is amended by the addition of the following information updates.

Commerce/Census—7

System Location:

Insert before “1210 East 10th Street,” “National Processing Center,”. Delete “47102” and insert “47132”.

Categories of individuals covered by the system:

Strike “requesting a census” and insert after “the” “geographical boundaries of local units of government requesting a special census during non-decennial years”.

Categories of records in the system: *

Authority for maintenance of the system:

Strike “8” and insert “196”. Add “These collections are conducted under procedures published at 15 CFR, Part 50”.

Purpose(s):

Add “The purpose of this system of records is to verify the accuracy and quality of data collection and processing.”

Routine uses of records maintained in the system:*

Policies and practices for storing, retrieving, accessing, retaining, and disposing of records in the system:

Storage:*

Retrievability:*

Safeguards:

After the last sentence add: “Computer systems processing sensitive information meet the basic security requirements for discretionary access control as defined by DOD 5200.28 STD, commonly referred to as C2-level security. This level of security controls through use of specific security features, access to information such that only properly authorized individuals, or processes operating on their behalf, will have access to read, write, create, or delete information.”

Retention and disposal:

Insert at the beginning “In accordance with the Census Bureau records control schedule approved by the National Archives and Records Administration,” change “Tapes” to “tapes” insert “are” after “tapes”. Strike “2” and insert “three”.

Systems manager(s) and address:

Strike “Administration” and insert “Field Operations”.

Systems exempted from certain provisions of the Act:

Insert “system of” between “this” and “record” in the first sentence and change “record” to “records”.

______

* Indicates that there are no changes to that paragraph of the notice.

Dated: October 29, 2002.
Brenda Dolan,
Department of Commerce, Freedom of Information/Privacy Act Officer.

[FR Doc. 02-27822 Filed 10-31-02; 8:45 am]

BILLING CODE 3510-07-P